DEPARTMENT OF HEALTH AND HUMAN SERVICES

Centers for Disease Control and Prevention

[CDC-2019-0107, Docket Number NIOSH-331]

NIOSH Center for Motor Vehicle Safety Strategic Plan, 2020-2029

AGENCY: National Institute for Occupational Safety and Health (NIOSH) of the Centers for Disease Control and Prevention (CDC), Department of Health and Human Services (HHS).

ACTION: Notice of availability.

SUMMARY: NIOSH announces the availability of NIOSH Center for Motor Vehicle Safety Strategic Plan, 2020-2029.

DATES: The final document was published on July 15, 2020 on the CDC website.

ADDRESSES: The document may be obtained at the following link: https://www.cdc.gov/niosh/docs/2020-126/default.html.

FOR FURTHER INFORMATION CONTACT: Kyla Retzer, Western States Division, P.O. Box 25226, Denver, Colorado 80225-0226, (303) 236-5934 (not a toll-free number), kretzer@cdc.gov OR Dr. Rosa Rodriguez-Acosta, Division of Safety Research, 1095 Willowdale Road, MS 1808, Morgantown, West Virginia 26505-2888, (304) 285-6299 (not a toll-free number), rer3@cdc.gov.

SUPPLEMENTARY INFORMATION: On December 16, 2019, NIOSH published a request for comment in the Federal Register [84 FR 68458] on the draft version of the document NIOSH Center for Motor Vehicle Safety Strategic Plan, 2020-2029. NIOSH received comments from 11 respondents including professional organizations and the public. All comments received were carefully reviewed and addressed, where appropriate. In general, revisions in response to comments focused on clarifying the worker groups and research topics that are a priority in the strategic plan. NIOSH Responses to Public Comments documents can be found in the Supporting Documents section on www.regulations.gov for this docket.

John J. Howard,
Director, National Institute for Occupational Safety and Health, Centers for Disease Control and Prevention.

[FR Doc. 2020-15672 Filed 7-20-20; 8:45 am]

BILLING CODE 4163-18-P